DEPARTMENT OF TRANSPORTATION

Office of the Secretary

Application of Elite Airways, LLC for Certificate Authority

AGENCY: Department of Transportation.

ACTION: Notice of Order to Show Cause (Order 2016-1-12); Docket DOT-OST-2015-0095.

SUMMARY: The Department of Transportation is directing all interested parties to show cause why it should not issue an order finding Elite Airways, LLC fit, willing, and able, and awarding it a certificate of public convenience and necessity to conduct interstate scheduled air transportation of persons, property and mail.

DATES: Persons wishing to file objections should do so no later than February 11, 2016.

ADDRESSES: Objections and answers to objections should be filed in Docket DOT-OST-2015-0095 and addressed to the U.S. Department of Transportation, Docket Operations, (M-30, Room W12-140), 1200 New Jersey Avenue SE., Washington, DC 20590, and should be served upon the parties listed in Attachment A to the order.

FOR FURTHER INFORMATION CONTACT: Barbara Snoden, Air Carrier Fitness Division (X-56, Room W86-471), U.S. Department of Transportation, 1200 New Jersey Avenue SE., Washington, DC 20590, (202) 366-4834.

Dated: January 28, 2016.
Susan L. Kurland,
Assistant Secretary for Aviation and International Affairs.

[FR Doc. 2016-02106 Filed 2-3-16; 8:45 am]

BILLING CODE 4910-9X-P